DEPARTMENT OF TRANSPORTATION

Federal Aviation Administration

[Docket No. FAA-2015-3323]

Notice of Public Meetings for Unmanned Aircraft Systems Test Sites and Center of Excellence

AGENCY: Federal Aviation Administration (FAA), Department of Transportation (DOT).

ACTION: Notice of public meetings.

SUMMARY: The FAA will support seven public meetings during August and September, 2015. These meetings will be hosted by the six unmanned aircraft system (UAS) Test Sites and UAS Center of Excellence (COE). The purpose of these meetings is to discuss innovation and opportunities at the Test Sites and COE.

DATES: Please see below for the date, time, and location of the meetings.

FOR FURTHER INFORMATION CONTACT: The Unmanned Aircraft Systems Integration Office, AFS-80, Federal Aviation Administration at: 9-AFS-UAS-Inquiries@faa.gov.

SUPPLEMENTARY INFORMATION:

Background

On December 30, 2013, the FAA selected six UAS Test Sites. This selection was Congressionally-mandated by section 332 of the FAA Modernization and Reform Act of 2012 (Pub. L. 112-95). The FAA is working closely with the Test Sites to guide research programs toward specific goals such as System Safety & Data Gathering, Aircraft Certification, Command & Control Link Issues, Control Station Layout & Certification, Ground & Airborne Sense & Avoid, and Environmental Impacts that will help the FAA safely integrate UAS into the national airspace system.

On May 8, 2015, the FAA selected a Mississippi State University team as the FAA's Center of Excellence for Unmanned Aircraft Systems (COE UAS). The COE will focus on research, education, and training in areas critical to safe and successful integration of UAS into the nation's airspace.

Purpose of the Public Meetings

The purpose of these meetings is to discuss innovation and opportunities at the Test Sites and COE. The Test Sites and COE will host and set the agenda for each public meeting. The meetings will aid both public and private sector stakeholders to better understand the value the Test Sites and COE provide in furthering UAS integration through research, development, and operational testing.

Public Meeting Dates, Times, and Locations

The meetings will be held on the following dates. Please contact the UAS Test Sites or COE through the individuals listed below for further details on location, time, and event logistics.

Site | Date, time, and location of meeting | Point of contact | Web site
UAS Test Sites
Virginia Polytechnic Institute and State University Test Site | Monday, August 24, 2015, 1pm-3pm (local), Virginia Tech Executive Briefing Center, 900 N. Glebe Road, Arlington, VA | Jennifer Tomlin, Program Manager, Mid-Atlantic Aviation Partnership, (540) 231-8890, tomlinja@exchange.vt.edu | www.maap.ictas.vt.edu.
University of Alaska Test Site | Thursday, August 27, 2015, 11am-1 pm (local), Murie Auditorium, 103 Murie Bldg., 982 Koyukuk Drive, University of Alaska Fairbanks, Fairbanks, AK | Diana Campbell, Public Relations Assistant/Event Coordinator for the Geophysical Institute, (907) 474-5229, dlcampbell@alaska.edu. | www.uasalaska.org.
State of Nevada Test Site | Thursday, September 17, 2015 ¹ | Thomas A. Wilczek, Aerospace & Defense Industry Representative, (775) 687-9900, tawilczek@diversifynevada.com | www.diversifynevada.com.
North Dakota Department of Commerce Test Site | Wednesday, September 23, 2015, 1:30pm-3:30pm (local), Alerus Convention Center, 1200 42nd Street South, Grand Forks, ND | Brian Opp, Manager, Aerospace Business Development, (701) 328-5300, blopp@nd.gov | www.nduas.com.
Texas A&M University—Corpus Christi Test Site | Friday, September 25, 2015, 9am-11am (local), University Center, Texas A&M University, 6300 Ocean Drive, Corpus Christi, TX | Jerry Hendrix, Chief Engineer Texas A&M—Corpus Christi Lone Star UAS Center of Excellence and Innovation, (361) 825-4104, jhendrix@camber.com | www.lsuasc.tamucc.edu.
Griffiss International Airport Test Site | Tuesday, September 29, 2015, 2pm-4pm (local), Mohawk Valley Community College, 1101 Sherman Drive, Payne Hall 331, Utica, NY | Russell Stark, NUAIR Executive Director, (315) 736-4171, rstark@ocgov.net | www.nuairalliance.org.
UAS Center of Excellence
Mississippi State University | Tuesday, September 15, 2015, 11:00am-1:00pm (local), First hour ²11:00 am -12:00 pm: Enology Lab, 130 Foil Road, Starkville, MS, Second hour 12:00 pm-1:00 pm: Palmeiro Center, 675 Collegeview St., Starkville, MS | James O. Poss, Executive Director of ASSURE FAA Center of Excellence for Unmanned Systems, (228) 688-6988, jposs@hpc.msstate.edu | www.ASSUREuas.org.
¹ Time and location are to be determined. Please contact the individual listed as the Point of Contact for time and location details.
² Transportation will be provided between the two meeting sites.

Participation at the Public Meetings

The UAS Test Sites and COE will advertise their respective public meetings in multiple ways, including but not limited to:

— Local newspapers and media.

— Public radio.

— Social media.

— University newsletters.

— Public service announcements.

Public Meeting Procedures

The UAS Test Sites and COE will host and set the agenda for their respective meetings. Meetings will be held for two hours. Presenters and/or panelists will be chosen by the Test Sites/COE and may include representatives from the Test Sites/COE, their respective research organization(s), and/or any subject matter experts the Test Sites or COE designate.

The meetings will be open to all persons, subject to availability of space in the meeting room(s). The Test Sites and COE will make every effort to accommodate all persons wishing to attend. At a minimum, one regional FAA representative will be present at each meeting.

Issued in Washington, DC, on August 3, 2015.
Stephen M. George,
Acting Assistant Manager, Unmanned Aircraft Systems Integration Office.

[FR Doc. 2015-19375 Filed 8-3-15; 4:15 pm]

BILLING CODE 4910-13-P